DEPARTMENT OF DEFENSE

Department of the Navy

[USN-2008-0019]

Privacy Act of 1974; System of Records

AGENCY: Department of the Navy, DoD.

ACTION: Notice to Alter a System of Records.

SUMMARY: The Department of the Navy proposes to alter a system of records notice in its existing inventory of records systems subject to the Privacy Act of 1974, (5 U.S.C. 552a), as amended.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy's systems of records notices subject to the Privacy Act of 1974, (5 U.S.C. 552a), as amended, have been published in the Federal Register and are available from the address above.

The proposed system reports, as required by 5 U.S.C. 552a(r), of the Privacy Act of 1974, as amended, were submitted on March 21, 2008, to the House Committee on Oversight and Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: March 26, 2008.
L.M. Bynum,
Alternate OSD Federal Register Liaison Officer, Department of Defense.

* * * * *

N11101-1

System name:

Family Housing File (November 10, 1993, 58 FR 59710).

Changes:

Replace “N11101-1” with “NM11101-1”

System name:

Delete entry and replace with “DON Family and Bachelor Housing Program.”

System location:

Delete entry and replace with “DON housing offices. Official mailing addresses are published in the Standard Navy Distribution List that is available at http://doni.daps.dla.mil/sndl.aspx.”

Categories of individuals covered by the system:

Delete entry and replace with “Military/civilian personnel eligible for/interested in occupying DON housing and those occupying DON housing (including privatized housing).”

* * * * *

Authority for maintenance of the system:

Delete entry and replace with “10 U.S.C. 5013, Secretary of the Navy; 10 U.S.C. 5041, Headquarters, Marine Corps; 10 U.S.C. 2831, Military Family Housing Management Account; DoD 4165.63-M, DoD Housing Management; and E.O. 9397 (SSN).”

Purpose(s):

Delete entry and replace with “To determine an individual's eligibility for Navy or Marine Corps housing (including privatized housing) and notification for subsequent assignment to housing or granting a waiver to allow occupancy of private housing.

To determine priority and list individual's name on appropriate housing waiting list.

To oversee housing occupancy once assigned.

To provide housing information to DON or other military components.”

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Add the following routine uses:

“To private partners who operate privatized Navy or Marine Corps housing for management and operational purposes.

To police and fire departments for accident, health and safety, and other investigative activities.

To child protective services during their investigation into possible child abuse.

To adoption agencies who seek information on housing status, problems, etc., for use in qualifying a couple to adopt.

To provide demographic data to the public school system to help determine military impact on school population.”

Storage:

Delete entry and replace with “File folders and centrally maintained networked database.”

Retrievability:

Delete entry and replace with “Name of applicant; name of resident; and house number of resident.”

Safeguards:

Delete entry and replace with “Access to files is limited to personnel requiring access in the performance of their official duties. Records are maintained in a secure building on a secure military base, encrypted, maintained behind a firewall, and password protected. Private partners maintain comparable security protections.”

Retention and disposal:

Delete entry and replace with “Paper files are retained for up to three years after termination of housing occupancy and then destroyed. Electronic files are maintained until no longer required and then destroyed”.

System manager(s) and address:

Delete entry and replace with “Policy Official: Commander, Navy Installations Command, Director of Housing, Suite 300, 2713 Mitscher Road, SW., Anacostia Annex, Washington, DC 20373-5802.

Record Holder:

Housing Offices at the station/base in question. Official station/base mailing addresses are published in the Standard Navy Distribution List that is available at http://doni.daps.dla.mil/sndl.aspx.”

Notification procedure:

Delete entry and replace with “Individuals seeking to determine whether this system of records contains information about themselves should address written inquiries to the Housing Office at the station/base where they applied for housing. Official station/base mailing addresses are published in the Standard Navy Distribution List that is available at http://doni.daps.dla.mil/sndl.aspx.

Requests must be signed and include full name of applicant or name of resident, house number, and year(s) of occupancy.”

* * * * *

Record access procedures:

Delete entry and replace with “Individuals seeking access to records about themselves should address written inquiries to the Housing Office at the station/base where they applied for housing. Official station/base mailing addresses are published in the Standard Navy Distribution List that is available at http://doni.daps.dla.mil/sndl.aspx.

Requests must be signed and include full name of applicant or name of resident, house number, and year(s) of occupancy.”

Record source categories:

Delete entry and replace with “Individual; DD Form 1746 (Application for Assignment to Housing); Military Orders; Emergency Data Form; detaching endorsement from prior duty station; military pay records.”

* * * * *

NM11101-1

System name:

DON Family and Bachelor Housing Program.

System location:

DON housing offices. Official mailing addresses are published in the Standard Navy Distribution List that is available at http://doni.daps.dla.mil/sndl.aspx.

Categories of individuals covered by the system:

Military/civilian personnel eligible for/interested in occupying DON housing and those occupying DON housing (including privatized housing).

Categories of records in the system:

DD Form 1746, Application for Assignment to Housing (application contains information such as name, address, rank/rate, Social Security Number (SSN), length of service, time remaining on active duty, date of rank, etc.; dependency data, e.g., total number in family, spouse, age and sex of dependents, etc.; and other pertinent housing information, e.g., last assignment, months involuntarily separated, special health problems, etc.); orders; emergency data form; detaching endorsement from prior duty station; full name.

Authority for maintenance of the system:

10 U.S.C. 5013, Secretary of the Navy; 10 U.S.C. 5041, Headquarters, Marine Corps; 10 U.S.C. 2831, Military Family Housing Management Account; DoD 4165.63-M, DoD Housing Management; and E.O. 9397 (SSN).

Purpose(s):

To determine an individual's eligibility for Navy or Marine Corps housing (including privatized housing) and notification for subsequent assignment to housing or granting a waiver to allow occupancy of private housing.

To determine priority and list individual's name on appropriate housing waiting list.

To oversee housing occupancy once assigned.

To provide housing information to DON or other military components and government agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To private partners who operate privatized Navy or Marine Corps housing for management and operational purposes.

To police and fire departments for accident, health and safety, and other investigative activities.

To child protective services during their investigation into possible child abuse.

To adoption agencies who seek information on housing status, problems, etc., for use in qualifying a couple to adopt.

To provide demographic data to the public school system to help determine military impact on school population.

The DoD `Blanket Routine Uses' that appear at the beginning of the Navy's compilation of systems of records notices apply to this system.

Policies and practices for storing, retrieving, accessing, retaining, and disposing of records in the system:

Storage:

File folders and centrally maintained networked database.

Retrievability:

Name of applicant; name of resident; and house number of resident.

Safeguards:

Access to files is limited to personnel requiring access in the performance of their official duties. Records are maintained in a secure building on a secure military base, encrypted, maintained behind a firewall, and password protected. Private partners maintain comparable security protections.

Retention and disposal:

Paper files are retained for up to three years after termination of housing occupancy and then destroyed. Electronic files are maintained until no longer required and then destroyed.

System manager(s) and address:

Policy Official: Commander, Navy Installations Command, Director of Housing, Suite 300, 2713 Mitscher Road, SW., Anacostia Annex, Washington, DC 20373-5802.

Record Holder:

Housing Offices at the station/base in question. Official station/base mailing addresses are published in the Standard Navy Distribution List that is available at http://doni.daps.dla.mil/sndl.aspx.

Notification procedure:

Individuals seeking to determine whether this system of records contains information about themselves should address written inquiries to the Housing Office at the station/base where they applied for housing. Official station/base mailing addresses are published in the Standard Navy Distribution List that is available at http://doni.daps.dla.mil/sndl.aspx.

Requests must be signed and include full name of applicant or name of resident, house number, and year(s) of occupancy.

Record access procedures:

Individuals seeking access to records about themselves should address written inquiries to the Housing Office at the station/base where they applied for housing. Official station/base mailing addresses are published in the Standard Navy Distribution List that is available at http://doni.daps.dla.mil/sndl.aspx.

Requests must be signed and include full name of applicant or name of resident, house number, and year(s) of occupancy.

Contesting record procedures:

The Navy's rules for accessing records, and for contesting contents and appealing initial agency determinations are published in Secretary of the Navy Instruction 5211.5, 32 CFR part 701; or may be obtained from the system manager.

Record source categories:

Individual; DD Form 1746 (Application for Assignment to Housing); Military Orders; Emergency Data Form; detaching endorsement from prior duty station; military pay records.

Exemptions claimed for the system:

None.

[FR Doc. E8-6635 Filed 3-31-08; 8:45 am]

BILLING CODE 5001-06-P